DEPARTMENT OF AGRICULTURE

Submission for OMB Review; Comment Request, Correction

April 15, 2004.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other forms of information technology should be addressed to: Desk Officer for Agriculture, Office of Information and Regulatory Affairs, Office of Management and Budget (OMB), Pamela_Beverly_ORIA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Cooperative State Research, Education, and Extension Service

Title: CSREES Current Research Information System (CRIS)

OMB Control Number: 0524-New.

Summary of Collection: The United States Department of Agriculture (USDA), Cooperative State Research, Education, and Extension Service (CSREES) administers several competitive, peer-reviewed research, education and extension programs, under which awards of a high-priority are made. These programs are authorized pursuant to the authorities contained in the National Agricultural Research, Extension, and Teaching Policy Act of 1977, as amended (7 U.S.C. 3101); the Smith-Lever Act; and other legislative authorities. The Current Research Information System (CRIS) is USDA's documentation and reporting system for ongoing agricultural, food science, human nutrition, and forestry research. CRIS operates administratively under CSREES, but is a cooperative endeavor whereby information is collected on a project-by-project basis from many participant organizations, both federal and non-federal. Information is received from USDA agencies, State Agricultural Experiment Stations, the state land-grant colleges and universities, the institutions of 1890, state schools of forestry, cooperating schools of veterinary medicine, USDA grant recipients, and other cooperating institutions. The information is collected primarily via the Internet using CRIS Web forms.

Need and Use of the Information: The collected information is necessary in order to provide descriptive information regarding individual research activities and integrated activities, to document expenditures and staff support for the activities, and to monitor the progress and impact of such activities. The information obtained through the collection process for CRIS furnishes unique data that is not available from any other source. Interruption in the collection process, or failure to collect this information, would severely compromise one of CSREES' primary functions stated in the agency's strategic plan of “providing program leadership to identify, develop, and manage programs to support university-based and other institutional research.”

Description of Respondents: State, local or tribal Government; not-for-profit institutions; business or other for-profit; Federal Government.

Number of Respondents: 30,441.

Frequency of Responses: Reporting: Other (varies by form).

Total Burden Hours: 64,228.

Cooperative State Research, Education, and Extension Service

Title: Reporting Requirements for State Plans of Work for Agricultural Research and Extension Formula Funds

OMB Control Number: 0524-New.

Summary of Collection: Section 202 and 225 of the Agricultural Research, Extension, and Education Reform Act of 1998 (AREERA) requires that a plan of work must be submitted by each institution and approved by the Cooperative State Research, Education, and Extension Service (CSREES) before formula funds may be provided to the 1862 and 1890 land-grant institutions. The plan of work must address critical agricultural issues in the State and describe the programs and project targeted to address these issues using the CSREES formula funds. The plan of work also must describe the institution's multistate activities as well as their integrated research and extension activities.

Need and Use of the Information: Institutions are required to annually report to CSREES the following: (1) The actions taken to seek stakeholder input to encourage their participation; (2) a brief statement of the process used by the recipient institution to identify individuals or groups who are stakeholders and to collect input from them; and (3) a statement of how collected input was considered. CSREES uses the information to provide feedback to the institutions on how to improve the conduct and the delivery of their programs. Failure to comply with the requirements may result in the withholding of a recipient institution's formula funds and redistribution of its share of formula funds to other eligible institutions.

Description of Respondents: Not-for-profit institutions; State, Local or Tribal Government.

Number of Respondents: 75.

Frequency of Responses: Reporting: Annually.

Total Burden Hours: 160,860.

Rural Business-Cooperative Service

Title: Annual Survey of Farmer Cooperatives.

OMB Control Number: 0570-0007.

Summary of Collection: The Rural Business Cooperative Service (RBS) was mandated the responsibility to acquire and disseminate information pertaining to agricultural cooperatives under the Cooperative Marketing Act of 1926; 7 U.S.C. 451-457 and Public Law No. 450. The primary objective of RBS is to promote understanding, use and development of the cooperative form of business as a viable option for enhancing the income of agricultural producers and other rural residents. The annual survey collects basic statistics on cooperative business volume, net income, members, financial status, employees, and other selected information to support RBS' objective and role. RBS will use a variety of forms to collect information.

Need and Use of the Information: RBS uses the information collected to summarized for program planning, evaluation service work and cooperative analysis and education. The information collected and published in the annual report on farmer cooperatives supports and enhances most of the major functions of RBS. By not collecting this information, the RBS would have difficulties in carrying out its policy on farmer cooperatives.

Description of Respondents: Business or other for-profit.

Number of Respondents: 1,766.

Frequency of Responses: Reporting: Annually.

Total Burden Hours: 1,685.

Rural Housing Service

Title: 7 CFR 1944-D, Farm Labor Housing Loan and Grant Policies, Procedures, and Authorization.

OMB Control Number: 0575-0045

Summary of Collection: Section 514 and 516 of Title V of the Housing Act of 1949 authorizes Rural Housing Service (RHS) to make loans and grants to public, private nonprofit and farm worker organizations for developing farm labor. The objective of this program is to provide decent, safe, and sanitary housing and related facilities for domestic farm labor and migrant labor in areas where needed.

Need and Use of the Information: The information collected is based on the program requirements and regulation that help to determine an applicant's eligibility for a loan and/or grant. RHS has the responsibility for protecting the interest of taxpayer's funds and to assure that the objectives of the loan and grant programs are carried out as intended. Failure to have this information would result in illegal and unauthorized use of federal funds.

Description of Respondents: Farms; not for profit institutions; State, local or tribal Government.

Number of Respondents: 695.

Frequency of Responses: Record keeping; reporting: On occasion.

Total Burden Hours: 10,151

Rural Housing Service

Title: 7 CFR 3570-B, Community Facilities Grant Program.

OMB Control Number: 0575-0173.

Summary of Collection: The Consolidated Farm and Rural Development Act (7 U.S.C. 1926) authorizes Rural Housing Service (RHS) to make grants to public agencies, nonprofit corporations, and Indian tribes to develop essential community facilities and services for public use in rural areas. These facilities include schools, libraries, childcare, hospitals, clinics, assisted-living facilities, fire and rescuer stations, police stations, community centers, public buildings, and transportation. The Department of Agriculture through its Community Programs strives to ensure that facilities are readily available to all rural communities.

Need and Use of the Information: Rural Development field offices will collect information from applicant/borrowers and consultants. This information is used to determine applicant/borrower eligibility, project feasibility, and to ensure borrowers operate on a sound basis and use loan and grant funds for authorized purposes. Failure to collect the information could result in improper determinations of eligibility, improper use of funds, and or unsound loans.

Description of Respondents: Not-for-profit institutions; State, Local and Tribal Government.

Number of Respondents: 863.

Frequency of Responses: Reporting: On occasion.

Total Burden Hours: 1,070.

Rural Housing Service

Title: Farm Labor Housing Technical Assistance Grants.

OMB Control Number: 0575-0181.

Summary of Collection: The Housing Act of 1949 gives the Rural Housing Service (RHS) the authority to make loans for the construction of farm labor housing (Section 514) and to provide financial assistance (grants) to eligible private and public nonprofit agencies (Section 516). Only three applicants' proposals will be selected for funding. The applicants will be notified and given the opportunity to submit a formal application. These grants will be awarded based on the qualifications of the applicants and their formal application. Eligibility for grants is limited to private and public nonprofit agencies.

Need and Use of the Information: RHS staff in the national office and Rural Development field offices will collect information from applicants and grant recipients to determine their eligibility for a grant, project feasibility, to select grant proposals for funding, and to monitor performance after grants have been awarded. The three applicants, who are awarded grants, are required to provide RHS with quarterly performance reports throughout the 3-year grant period. The respondents are not required to retain records for more than three years. Failure to collect this information could result in the improper use of Federal funds; difficulties in determining eligibility and selection of qualified applicants; and monitoring performance during the grant period.

Description of Respondents: Not for profit institutions; State, local or tribal government.

Number of Respondents: 6.

Frequency of Responses: Recordkeeping; Reporting: Annually; Quarterly.

Total Burden Hours: 115.

Agricultural Marketing Service

Title: Cotton Classing, Testing, and Standards.

OMB Control Number: 0581-0008.

Summary of Collection: The U.S. Cotton Standards Act, 7 U.S.C. 51, 53 and 55, authorizes the USDA to supervise the various activities directly associated with the classification or grading of cotton, cotton linters, and cottonseed based on official USDA Standards. The Cotton Program of the Agricultural Marketing Service carries out this supervision and is responsible for the maintenance of the functions to which these forms relate. USDA is the only Federal agency authorized to establish and promote the use of the official cotton standards of the U.S. in interstate and foreign commerce and to supervise the various activities associated with the classification or grading of cotton, cotton linters, and cottonseed based on official USDA standards.

Need and Use of the Information: The Agricultural Marketing Service uses the various forms to collect information pertaining to classification of cotton services, to request application for license and to order or acquire cotton grade and staple standards for upland and Pima cotton. Only authorized employees of USDA use the information.

Description of Respondents: Business or other for-profit; individuals or households.

Number of Respondents: 394.

Frequency of Responses: Reporting: Annually.

Total Burden Hours: 109.

Agricultural Marketing Service

Title: Cotton Classification and Market News Service.

OMB Control Number: 0581-0009.

Summary of Collection: The Cotton Statistics and Estimates Act, 7 U.S. Code 471-476, authorizes the Secretary of Agriculture to collect and publish annually statistics or estimates concerning the grades and staple lengths of stocks of cotton. In addition, Agricultural Marketing Service (AMS) collects, authenticates, publishes, and distributes timely information of the market supply, demand, location, and market prices for cotton (7 U.S.C. 473B). This information is needed and used by all segments of the cotton industry.

Need and Use of the Information: AMS will collect information on the quality of cotton in the carryover stocks along with the size or volume of the carryover. Growers use this information in making decisions relative to marketing their present crop and planning for the next one; cotton merchants use the information in marketing decisions; and the mills that provide the data also use the combined data in planning their future purchase to cover their needs. Importers of U.S. cotton use the data in making their plans for purchases of U.S. cotton. AMS and other government agencies are users of the compiled information.

Description of Respondents: Business or other for-profit.

Number of Respondents: 956.

Frequency of Respondents: Reporting: On occasion; Weekly; Annually.

Total Burden Hours: 716.

Agricultural Marketing Service

Title: Seed Service Testing Program.

OMB Control Number: 0581-0140.

Summary of Collection: The Agricultural Marketing Act (AMA) of 1946, as amended by 7 U.S.C. 1621 authorizes the Secretary to inspect and certify the quality of agricultural products and collect such fees as reasonable to cover the cost of service rendered. The purpose of the voluntary program is to promote efficient, orderly marketing of seeds and assist in the development of new and expanding markets. Under the program, samples of agricultural and vegetable seeds submitted to the Agricultural Marketing Service (AMS) are tested for factors such as purity and germination at the request of the applicant for the service. The Testing Section of the Seed Regulatory and Testing Branch of AMS that test the seed and issues the certificates is the only Federal seed testing facility that can issue the Federal Seed Analysis Certificate.

Need and Use of the Information: Applicants generally are seed firms who use the seed analysis certificates to represent the quality of seed lots to foreign customers according to the terms specified in contracts of trade. The only information collected is information needed to provide the service requested by the applicant. Applicants must provide information such as the kind and quantity of seed, tests to be performed, and seed treatment if present, along with a sample of seed in order for AMS to provide the service. Only authorized AMS employee used the information collected to track, test, and report test results to the applicant. If the information were not collected, AMS would not know which test to conduct or would not be able to relate the test results with a specific lot of seed.

Description of Respondents: Business or other for-profit; farms; State, local or tribal Government.

Number of Respondents: 82.

Frequency of Responses: Reporting; on occasion.

Total Burden Hours: 499.

Agricultural Marketing Service

Title: Reporting and Recordkeeping Requirements for 7 CFR, Part 29.

OMB Control Number: 0581-0056.

Summary of Collection: The Tobacco Inspection Act (U.S.C. 511) requires: (1) That all tobacco sold at designated auction markets in the U.S. be inspected and graded; (2) for the establishment and maintenance of tobacco standards for U.S. grown types; (3) for the collection and dissemination of market news; and (4) for provisions to be made for interested parties to request inspection and grading services on an “as needed” basis. The Dairy and Tobacco Adjustment Act, 1983 (P.L. 98-198) gives authorization to the Secretary to inspect all tobacco offered for importation into the United states for grade and quality except cigar and oriental tobacco which must be certified by the importer as to kind and type and in the case of cigar tobacco which will be used solely in the manufacture or production of cigars. Also, the Secretary has the authority the to fix and collect fees from the importers to cover the cost of inspection.

Need and Use of the Information: Various forms are use for inspection and certification process. The primary sources of data used to complete the forms are used in all business transaction. Only essential information that cannot be gathered from other sources is collected. If the information were collected less frequently, it would eliminate data needed to keep the tobacco industry and the Secretary abreast of changes.

Description of Respondents: Business or other for-profit.

Number of Respondents: 412.

Frequency of Responses: Recordkeeping; reporting; on occasion.

Total Burden Hours: 4,547.

Sondra Blakey,
Departmental Information Collection Clearance Officer.

[FR Doc. 04-9023 Filed 4-20-04; 8:45 am]

BILLING CODE 3410-01-M